DEPARTMENT OF AGRICULTURE

Submission for OMB Review; Comment Request

February 20, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Infor- mation and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Bovine Spongiform Encephalopathy; Importation of Animals and Animal Products.

OMB Control Number: 0579-0234.

Summary of Collection: Under the Animal Health Protection Act (Title 7, U.S.C. 8301, et seq.) the Secretary is authorized to promulgate regulations and take measures to prevent the introduction into the United States and the interstate dissemination within the United States of communicable diseases of livestock and poultry. The regulations in 9 CFR parts, 93, 94, 95 and 96 govern the importation of certain animals, birds, poultry, meat, other animal products and byproducts, hay, and straw into the United States in order to prevent the introduction of various animal diseases, including bovine spongiform encephalopathy (BSE). The Animal and Plant Health Inspection Service (APHIS) is charged with regulating the importation of animals and animal products to prevent the introduction of various animal diseases, including BSE.

Need and Use of the Information: The regulations allow, under specified conditions, the importation of certain live ruminants and ruminant products and byproducts. APHIS uses eartags, permits for animals destined for immediate slaughter or for movement to designated feedlots; certificate of processing from the government of the exporting region regarding the source of all raw material of animal origin in the imported products; placing of seals on certain conveyances, the identification of individuals authorized to break the seals, and agreements entered into by slaughtering establishments or feedlots with APHIS; and an APHIS Veterinary Services' veterinary import permit.

Description of Respondents: Business or other for-profit.

Number of Respondents: 9,800.

Frequency of Responses: Reporting: On occasion.

Total Burden Hours: 229,140.

Animal and Plant Health Inspection Service

Title: Karnal Bunt; Revision of Regulations for Importing Wheat.

OMB Control Number: 0579-0240.

Summary of Collection: Under the Plant Protection Act (7 U.S.C. 7701-7772), the Secretary of Agriculture is authorized to prohibit or restrict the importation, entry, or movement of plants and plant pests to prevent the introduction of plant pests into the United States or their dissemination within the United States. The Animal and Plant Health Inspection Service (APHIS), domestic Karnal bunt regulations are contained in Subpart-Karnal Bunt (7 CFR 301.89-1 through 301.89-16). Karnal bunt is a fungal disease of wheat. Karnal bunt is caused by the smut fungus Tilletia indica (Mitra) Mundkur and is spread by spores, primarily through the movement of infected seed.

Need and Use of the Information: In order for APHIS to verify that the articles are being imported in compliance with the regulations, the articles would have to be accompanied by a phytosanitary certificate issued by the national plant protection organization of the region of origin. The certificate must include a declaration stating that the regulated articles originated in areas where Karnal bunt is not known to occur, as attested to either by survey resulting or by testing for bunted karnals or spores.

Description of Respondents: Business or other for-profit; Federal Government.

Number of Respondents: 500.

Frequency of Responses: Reporting: On occasion.

Total Burden Hours: 600.

Ruth Brown,
Departmental Information Collection Clearance Officer.

[FR Doc. E8-3495 Filed 2-22-08; 8:45 am]

BILLING CODE 3410-34-P